DEPARTMENT OF DEFENSE

Department of the Army

Record of Decision for Army Training Land Retention at Pōhakuloa Training Area in Hawai`i (ID# EISX-007-21-001-1734439520)

AGENCY: Department of the Army, DOD.

ACTION: Notice of availability.

SUMMARY: The Department of the Army (Army) signed the Record of Decision (ROD) on July 31, 2025, for the Army Training Land Retention at Pōhakuloa Training Area (PTA) Environmental Impact Statement (EIS). The Army selected Alternative 2 (the preferred alternative in the Final EIS), retention of 19,700 acres of state-owned land at PTA. The ROD completes the National Environmental Policy Act (NEPA) process for the action.

ADDRESSES: The ROD, Final EIS, and informational materials are available on the EIS website at: https://home.army.mil/hawaii/ptaeis/project-home.

FOR FURTHER INFORMATION CONTACT: U.S. Army Garrison Hawai'i, Mr. Nathan Wilkes, Public Affairs Office, by telephone at (808) 787-2140 or by email at usarmy.hawaii.nepa@army.mil.

SUPPLEMENTARY INFORMATION: In accordance with the National Environmental Policy Act (NEPA), the ROD identifies the Army's selected alternative, the basis for its selection, and the mitigation measures the Army commits to implement with the selected alternative. The ROD is based on the results of the Final EIS, which analyzed the environmental impacts associated with the proposed action. The Army published the Final EIS on April 18, 2025.

The Final EIS evaluated the potential impacts of a range of reasonable alternatives: (1) Maximum Retention (of approximately 22,750 acres); (2) Modified Retention (of approximately 19,700 acres); and (3) Minimum Retention and Access (of approximately 10,100 acres and 11 miles of roads and training trails). The Final EIS also analyzed the potential impacts of the No Action Alternative, under which Army use of the land would cease altogether when the lease expires in 2029. The Army selects Alternative 2.

The Final EIS analyzed: land use; biological resources; historic and cultural resources and cultural practices; hazardous substances and hazardous wastes; air quality and greenhouse gases; noise; geology, topography, and soils; water resources; socioeconomics; environmental justice; transportation and traffic; airspace; electromagnetic spectrum; utilities; and human health and safety.

The Final EIS was prepared according to certain Executive Orders, the Council on Environmental Quality's NEPA implementing regulations, and the Army's NEPA implementing regulations, which are now rescinded. Because analysis regarding greenhouse gases and environmental justice was already provided to the public for comment in the Second Draft EIS, such analysis was included in the Final EIS for transparency and continuity.

The Army's decision to select Alternative 2 was based on consideration of the full analyses of all alternatives contained in the Final EIS, comments provided during formal public comment and review periods, and an evaluation of the ability of each alternative to meet the purpose of and need for the proposed action. The Army will proceed with Alternative 2, as described in the Final EIS, and will execute the mitigation and protective measures identified in the ROD.

(Authority: 42 U.S.C. 4321 et seq. (1969)).

James W. Satterwhite, Jr.,
U.S. Army Federal Register Liaison Officer.

[FR Doc. 2025-14919 Filed 8-5-25; 8:45 am]

BILLING CODE 3711-CC-P